DEPARTMENT OF THE TREASURY

United States Mint

Citizens Coinage Advisory Committee June 27, 2016 Public Meeting

AGENCY: United States Mint, Treasury.

ACTION: Announcement of meeting.

SUMMARY: Pursuant to United States Code, Title 31, section 5135(b)(8)(C), the United States Mint announces the Citizens Coinage Advisory Committee (CCAC) public meeting scheduled for June 27, 2016.

Date: June 27, 2016.

Time: 6:00 p.m. to 9:00 p.m. (Public Meeting followed by Public Forum).

Location: Gaylord Hall in the Worner Center, Campus of Colorado College, 902 N. Cascade Ave., Colorado Springs, CO 80903.

Subject: Review and discussion of the candidate designs for the 2018 America the Beautiful Quarters Program; review and discussion of candidate designs for the President Obama Presidential Medals (Terms One and Two); discussion of future palladium coin program; and election of jurors for the Breast Cancer Awareness Commemorative Coin Competition.

Interested persons should call the CCAC HOTLINE at (202) 354-7502 for the latest update on meeting time and room location.

Immediately following the public meeting the CCAC will be holding a public forum to receive input from collectors and the general public.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: June 2, 2016.
Richard A. Peterson,
Deputy Director for Manufacturing and Quality, United States Mint.

[FR Doc. 2016-13403 Filed 6-6-16; 8:45 am]

BILLING CODE P